DEPARTMENT OF EDUCATION

Centers for Independent Living Program—Training and Technical Assistance

AGENCY: Office of Special Education and Rehabilitative Services, Department of Education.

ACTION: Notice of proposed priorities.

SUMMARY: The Assistant Secretary for the Office of Special Education and Rehabilitative Services (OSERS) proposes two priorities under the Centers for Independent Living (CIL) Program—Training and Technical Assistance. The Assistant Secretary may use one or more of these priorities for competitions in fiscal year (FY) 2007 and in later years. We take this action to improve the efficiency, quality of evaluation, and outcomes for individuals with significant disabilities as a result of the delivery of independent living services of the CILs and to improve the performance of Statewide Independent Living Councils (SILCs).

DATES: We must receive your comments on or before April 5, 2007.

ADDRESSES: Address all comments about these proposed priorities to Sean Barrett, U.S. Department of Education, 400 Maryland Avenue, SW., Room 5042, Potomac Center Plaza, Washington, DC 20202-2800. If you prefer to send your comments through the Internet, use the following address: sean.barrett@ed.gov.

You must include the term “IL T&TA” in the subject line of your electronic message.

FOR FURTHER INFORMATION CONTACT: Sean Barrett. Telephone: (202) 245-7604 or via Internet: sean.barrett@ed.gov.

If you use a telecommunications device for the deaf (TDD), you may call (866) 889-6737.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities. To ensure that your comments have maximum effect in developing the notice of final priorities, we urge you to identify clearly the specific proposed priority that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priorities in Room 5042, Potomac Center Plaza, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in a notice in the Federal Register. We will determine the final priorities after considering responses to this notice and other information available to the Department. This notice does not preclude us from proposing or using additional priorities, subject to meeting applicable rulemaking requirements.

Note: This notice does not solicit applications. In any year in which we choose to use one or more of these proposed priorities, we invite applications through a notice in the Federal Register. When inviting applications, we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Training and Technical Assistance Under the CIL Program

Under the CIL Program, the Department currently funds two training and technical assistance grants: one that supports training and technical assistance to CILs and SILCs on the issue of service delivery to young people with disabilities as they transition from school to living independently and one that provides general, comprehensive training and technical assistance to both CILs and SILCs.

The two priorities proposed in this notice would be used for competitions in which the Department would make awards to applicants to provide general, comprehensive training and technical assistance to CILs and to SILCs. Rather than requiring all applicants to demonstrate how they will meet the training and technical assistance needs of both CILs and SILCs, we believe that it would be a better use of funds to establish two separate priorities and award separate grants—one under the Centers for Independent Living (CILs) Training and Technical Assistance Center priority that would focus on the training and technical assistance needs of CILs and one under the Statewide Independent Living Councils (SILCs) Training and Technical Assistance Center priority that would focus on the training and technical assistance needs of SILCs. We believe that this approach would encourage applicants to address completely and comprehensively the unique training and technical assistance needs of CILs and of SILCs.

We have determined from our annual survey of CILs and SILCs, and from our ongoing monitoring and technical assistance activities, that a significant proportion of CILs and SILCs require intensive training and technical assistance on the most fundamental organizational and operational aspects of program compliance, as well as on issues related to improved performance.

The training and technical assistance needs of CILs and SILCs differ widely because their program responsibilities and challenges are distinct. We believe that conducting competitions using two separate priorities would allow both CILs and SILCs to obtain the intensive, specialized assistance they need by focusing applicants on the particular training and technical assistance needs of each.

In addition to the difference in the character of the training and technical assistance required by CILs and SILCs, there would be a significant difference in the number of CILs and SILCs receiving the training under the two priorities. Under the CILs Training and Technical Assistance Center priority, a grantee would provide training and technical assistance to over 330 CILs across the country and any eligible agencies, defined in section 726 of the Rehabilitation Act of 1973, as amended, who request training and technical assistance. The grantee under the SILC Training and Technical Assistance Center priority, on the other hand, would serve 56 SILCs. We believe that two competitions may encourage a greater number of applicants with varied experience in the operation of CILs to apply and permit us to maximize the innovative ideas, approaches and organizational strengths offered by applicants.

Priorities

Proposed Priority 1—Centers for Independent Living (CILs) Training and Technical Assistance Center

Background

Centers for independent living (CILs) are consumer-controlled, community-based, cross-disability, nonresidential private nonprofit agencies that are designed and operated within a local community by individuals with disabilities and provide an array of independent living services, including the core services of information and referral, advocacy, peer support, and independent living skills building. The training and technical assistance needs of CILs are ongoing and evolve as new centers are funded, existing centers expand and change, and personnel at existing centers change.

The training and technical assistance needs of CILs are identified through CIL responses to a survey in their annual performance reports and through the Department's monitoring and technical assistance efforts. These training and technical assistance needs include needs in areas that are critical for all CILs as well as needs in areas that are center-specific.

Priority

This priority supports a CILs Training and Technical Assistance Center (CILs T&TA Center) to improve the performance of CILs by providing training and technical assistance to the CILs on the programmatic and financial aspects of their operations, including information on effective practices and proven solutions to common problems. CILs are distributed across the Nation and vary in size, stage of development, service area characteristics, and urgency of need for training and technical assistance. Therefore, the training and technical assistance provided by the CILs T&TA Center must be sensitive to this diversity and must encompass a broad range of topics.

The CILs T&TA Center must make available to all CILs a broad array of resources, training, and technical assistance. In addition, the CILs T&TA Center must address the specific needs of CILs by providing those CILs that require it with intensive, individualized, on-site training and technical assistance that meets their needs. In this regard, the CILs T&TA Center must be prepared to respond promptly to the Department's identification of particular training and technical assistance needs in general and those of particular CILs.

In coordination with the Department, the CILs T&TA Center must—

(a) Develop and provide training and technical assistance, based on the CILs’ annual performance report survey and other available data, on topics related to the provision and expansion of independent living (IL) services (primarily the IL core services), fiscal and management practices, compliance with CIL standards and assurances, increased program efficiency, rigorous evaluation, and improved outcomes as measured by long-term goals and indicators;

(b) Develop and implement a plan to ensure that training and technical assistance efforts will reach all federally funded CILs and other eligible agencies;

(c) Refer CILs and eligible agencies to non-IL specific training and technical assistance available through government or non-government resources;

(d) Utilize a broad range of available, accessible technologies and methodologies to provide training and technical assistance to CILs and eligible agencies in the most effective and cost efficient manner;

(e) Provide focused, intensive and rapid training and technical assistance to CILs identified by the Department as needing, or to CILs requesting, such assistance;

(f) Identify and develop accessible training and technical assistance materials and disseminate these materials to CILs and eligible agencies; and

(g) Coordinate and collaborate with other training projects funded by the Department to ensure that training activities are complementary and non-duplicative and that dissemination activities are effective and efficient. At a minimum, the CILs T&TA Center must coordinate with any SILC Training and Technical Assistance Center funded under the Statewide Independent Living Councils (SILCs) Training and Technical Assistance Center priority.

Proposed Priority 2—Statewide Independent Living Councils (SILCs) Training and Technical Assistance Center

Background

States are required to establish a Statewide Independent Living Council (SILC) in order to receive Federal funding to support and coordinate independent living (IL) services in the State. A SILC's duties include jointly developing and signing the State Plan for Independent Living (SPIL) with the designated State unit; monitoring, reviewing, and evaluating the implementation of the SPIL; and coordinating activities with the State Rehabilitation Council and other councils addressing the needs of specific disability populations and issues under other Federal law. A majority of a SILC's members are individuals with disabilities who are not employed by a CIL or a State agency; other members include centers for independent living (CIL) representatives, State agency representatives, and other appropriate individuals.

SILC members are appointed on a rotating basis, serve in a volunteer capacity, often maintain other employment, and have widely varying experiences with disability programs. In addition, SILCs typically experience a significant amount of membership turnover. The training and technical assistance needs of SILCs are identified through SILC responses to a survey in their annual performance reports and through the Department's monitoring and technical assistance efforts. These training and technical assistance needs include needs in areas that are critical for all SILCs as well as needs in areas that are SILC specific.

Priority

This priority supports a SILCs Training and Technical Assistance Center (SILCs T&TA Center) to improve the performance of SILCs through greater access to timely and relevant training and technical assistance regarding SILC duties and operation.

In coordination with the Department, the SILCs T&TA Center must—

(a) Develop and provide training and technical assistance, based on the SILCs' annual performance report survey and other available data, on topics directly related to SILC legal responsibilities, including SILC organization and operation and the development of the SPIL;

(b) Develop and implement a plan to provide to all SILCs the training and technical assistance identified in paragraph (a) of this priority;

(c) Refer SILCs to non-IL specific training and technical assistance available through government or non-government resources;

(d) Utilize a broad range of available, accessible technologies and methodologies to provide training and technical assistance to SILCs in the most effective and cost efficient manner;

(e) Identify and develop accessible training and technical assistance materials and disseminate these materials to the SILCs;

(f) Provide technical assistance to SILCs to enhance SILC partnerships with State vocational rehabilitation agencies, CILs, and other organizations, with a focus on sharing successful operational experiences of other SILCs;

(g) Coordinate and collaborate with other training projects funded by the Department to ensure that training activities are complementary and non-duplicative and dissemination activities are effective and efficient. At a minimum, the SILCs T&TA Center must coordinate with any CILs Training and Technical Assistance Center funded under the Centers for Independent Living (CILs) Training and Technical Assistance Center priority.

Executive Order 12866

This notice of proposed priorities has been reviewed in accordance with Executive Order 12866. Under the terms of the order, we have assessed the potential costs and benefits of this regulatory action.

The potential costs associated with the notice of proposed priorities are those resulting from statutory requirements and those we have determined as necessary for administering this program effectively and efficiently.

In assessing the potential costs and benefits—both quantitative and qualitative—of this notice of proposed priorities, we have determined that the benefits of the proposed priorities justify the costs.

We have also determined that this regulatory action does not unduly interfere with State, local, and tribal governments in the exercise of their governmental functions.

Summary of Potential Costs and Benefits

Because the Department is proposing two priorities that may be used in two competitions, rather than one, the potential for increased application costs exists for an applicant that chooses to apply for both grants under both priorities. However, both priorities share the same overall objective—improved performance in the CIL program—and applications under both priorities would likely include common elements. This may minimize any increased costs associated with the two priorities.

For an applicant that chooses to apply for only one grant, the two-priority approach would have the potential of reducing the application costs. The Department believes that the potential benefits to the CIL program from a more focused, specialized approach to training and technical assistance for CILs and SILCs would outweigh any possible increase in associated application costs.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 366.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.132B, Independent Living Program—Training and Technical Assistance Center)

Program Authority: 29 U.S.C. 796f(b).

Dated: February 28, 2007.
John H. Hager,
Assistant Secretary for Special Education and Rehabilitative Services.

[FR Doc. E7-3886 Filed 3-5-07; 8:45 am]

BILLING CODE 4000-01-P